DEPARTMENT OF AGRICULTURE

Agricultural Marketing Service

[Docket Number FV-05-306]

United States Standards for Grades of Lemons

AGENCY: Agricultural Marketing Service, USDA.

ACTION: Notice.

SUMMARY: The Agricultural Marketing Service (AMS) published a notice soliciting comments as to whether any changes were necessary to the voluntary United States Standards for Grades of Lemons. No comments were received. The Agency has decided not to proceed further with this action due to lack of comments.

EFFECTIVE DATE: September 12, 2005.

FOR FURTHER INFORMATION CONTACT: Cheri L. Emery, Standardization Section, Fresh Products Branch, Fruit and Vegetable Programs, Agricultural Marketing Service, U.S. Department of Agriculture, 1400 Independence Avenue, SW., Room 1661 South Building, STOP 0240, Washington, DC 20250-0240, Fax (202) 720-8871 or call (202) 720-2185; E-mail Cheri.Emery@usda.gov. The United States Standards for Grades of Lemons are available either through the address cited above or by accessing the Fresh Products Branch Web site at: http://www.ams.usda.gov/standards/stanfrfv.htm.

Background

At a 2003 meeting with the Fruit and Vegetable Industry Advisory Committee, AMS was asked to review all the fresh fruit and vegetable grade standards for usefulness in serving the industry. AMS had identified the United States Standards for Grades of Lemons for a possible revision. The United States Standards for Grades of Lemons were last amended December 27, 1999.

On April 26, 2005, a notice seeking comments regarding any revision to the lemon grade standards that may be necessary to better serve the industry was published in the Federal Register (70 FR 21392) with the comment period that ended June 27, 2005. During that sixty-day comment period, no comments were received.

The Agency has decided not to proceed further with this action.

Authority: 7 U.S.C. 1621-1627.

Dated: September 6, 2005.
Lloyd C. Day,
Administrator, Agricultural Marketing Service.

[FR Doc. 05-17946 Filed 9-9-05; 8:45 am]

BILLING CODE 3410-02-P